DEPARTMENT OF ENERGY

Federal Energy Regulatory Commission

[Project No. 1354-005-California]

Pacific Gas & Electric Company; Notice of Availability of Supplemental Environmental Assessment

September 26, 2002.

In accordance with the National Environmental Policy Act of 1969 and the Federal Energy Regulatory Commission (Commission) regulations, 18 CFR part 380 (FERC Order No. 486, 52 FR 47897), the Office of Energy Projects has reviewed the application for a new license for the Crane Valley Project. Commission staff, with the U.S. Forest Service as a cooperating agency, has prepared a supplemental environmental assessment (SEA) for the project. The project is located on Willow Creek, South Fork Willow Creek, North Fork Willow Creek, Chilkoot Creek, and Chiquito Creek in the San Joaquin River Basin in Madera County, California.

The SEA contains our analysis of the potential environmental effects of the existing project and concludes that licensing the project, with appropriate environmental measures, would not constitute a major federal action significantly affecting the quality of the human environment.

A copy of the SEA is on file with the Commission and is available for public inspection at the Commission in the Public Reference Room, or it may be viewed on the Commission's website at http://www.ferc.gov using the “FERRIS” link. Enter the docket number, excluding the last three digits in the docket number field, to access the document. For assistance, call (202) 502-8222 or (202) 502-8659 (for TTY).

Any comments should be filed within 45 days from the date of this notice and should be addressed to Magalie R. Salas, Secretary, Federal Energy Regulatory Commission, 888 First Street, NE., Washington, DC 20426. Please affix “Crane Valley Project No. 1354-005,” to all comments. Comments may be filed electronically via the Internet in lieu of paper. See 18 CFR 385.2001(a)(1)(iii) and the instructions on the Commission's website at http://www.ferc.gov under the “e-Filing” link.

For further information, please contact Jim Fargo at (202) 502-6095 or at james.fargo@ferc.gov.

Linwood A. Watson, Jr.,
Deputy Secretary.

[FR Doc. 02-25017 Filed 10-1-02; 8:45 am]

BILLING CODE 6717-01-P